DEPARTMENT OF TRANSPORTATION

Federal Highway Administration

Revised Notice of Intent To Prepare a Tier 1 Environmental Impact Statement With: Dane and Columbia Counties, Wisconsin

AGENCY: Federal Highway Administration (FHWA), Wisconsin Department of Transportation (WisDOT).

ACTION: Revised Notice of Intent to Prepare a Tier 1 Environmental Impact Statement.

SUMMARY: The purpose of this NOI is to update the notice that was issued in the Federal Register Vol. 79 No. 224, Thursday, November 20, 2014, Notices. The FHWA is issuing this revised notice to advise the public that FHWA and WisDOT will be preparing a Tier 1 Environmental Impact Statement (EIS) for proposed transportation improvements along the Interstate (I)-39/90/94 corridor, from the United States Highway (US) 12/18 Interchange to the I-39/Wisconsin State Highway (WIS) 78 interchange in Dane and Columbia Counties in south-central Wisconsin. A more detailed analysis will be prepared for a 6.6 mile portion of the corridor from Columbia County Highway CS to the I-39/WIS 78 interchange (south of Portage). This analysis could be completed within the Tier 1 EIS, as a separate Tier 2 NEPA document, or with an environmental document outside the tiered process. The NOI is being updated to reflect the current status of the environmental study since the previous NOI was issued in November 2014.

FOR FURTHER INFORMATION CONTACT: Andrew Brinkerhoff, Major Projects Engineer, Federal Highway Administration, 525 Junction Road, Suite 8000, Madison, Wisconsin, 53717-2157, Telephone: (608) 829-7523. You may also contact Pat Trainer, Acting Director, Bureau of Technical Services, Wisconsin Department of Transportation, P.O. Box 7965, Madison, Wisconsin, 53707-7965, Telephone: (608) 264-7330.

SUPPLEMENTARY INFORMATION:

Background

The FHWA, in cooperation with the Wisconsin Department of Transportation, will prepare a Tier 1 Environmental Impact Statement (EIS) on proposed improvements in the I-39/90/94 corridor and adjacent local road systems from the US 12/18 interchange (Madison Beltline interchange) to the I-39/WIS 78 interchange (south of Portage), approximately 35 miles. The project limits also include WIS 30 from East Washington Avenue to I-39/90/94, I-94 from I-39/90 to Dane County N, US 151 from I-39/90/94 to Main Street in Sun Prairie, and the I-39/90/94, US 51 & WIS 19 “triangle” in DeForest, including operational areas of influence at each interchange. The preliminary purpose of this project identified by FHWA and WisDOT is to address infrastructure needs; highway safety issues and design deficiencies; accommodate existing and projected traffic volumes; and improve the transportation system's ability to support local and regional tourism economies. There will be opportunities for public and agency involvement in further defining the Purpose and Need of the project.

FHWA's decision to prepare an EIS is based on the initial environmental investigation that indicates the proposed action is likely to have significant impacts on the environment, including wetlands. The study began preparing a Draft Environmental Impact Statement (DEIS) for the corridor, but due to project complexity and funding limitations, FHWA and WisDOT have decided to prepare a Tiered EIS instead of a traditional EIS. The Tier 1 EIS will analyze the project on a broad scale and identify a preferred corridor location for potential future improvements. The Tier 1 EIS will evaluate the social, economic, and environmental impacts for a range of alternatives within the existing I-39/90/94 corridor and improvements along other corridors.

More detailed analysis will be prepared for a 6.6 mile portion of the corridor from Columbia County Highway CS to the I-39/WIS 78 interchange. The purpose of the more detailed analysis is to address bridge structural needs at the Wisconsin River crossing due to the limited remaining operational life. The analysis would examine the impacts of construction and identify a preferred alternative; this analysis would ensure that bridge replacement could occur within the necessary time frame (by 2025).

Subsequent Tier 2 environmental documents will be prepared with a greater degree of engineering detail for specific improvements in the remainder of the corridor. The alternative analysis in the Tier 2 documents will include, but is not limited to, the alternatives that have been developed as part of the previous EIS study.

The Tier 1 EIS will be prepared in accordance with 23 U.S.C. 139, 23 CFR 771 and 40 CFR parts 1500-1508. Completion of the Tier 1 EIS and the Record of Decision (ROD) is expected in 2018.

Public involvement is a critical component of the National Environmental Policy Act (NEPA) and will occur throughout the development of the draft and final Tier 1 EIS. All environmental documents will be made available for review by federal and state resource agencies and the public. Specific efforts to encourage involvement by, and solicit comments from, minority and low-income populations in the project study area will be made, with public involvement meetings held throughout the environmental document process. Public notice will be given as to the time and place of public involvement meetings. A public hearing will be held after the completion of the Draft Tier 1 EIS.

Inquiries about the EIS can be sent to robert.knorr@dot.wi.gov. A public Web site will be maintained throughout the study to provide information about the project and allow for on-line public comment (http://wisconsindot.gov/Pages/projects/by-region/sw/399094/default.aspx). To ensure the full range of issues related to the proposed action are addressed and all significant issues identified, comments and suggestions are invited from all interested parties. Comments and questions concerning the proposed action and this notice should be directed to the FHWA address provided above.

Projects receiving Federal funds must comply with Title VI of the Civil Rights Act, and Executive Order 12898 “Federal Actions to Address Environmental Justice in Minority Populations and Low-Income Populations.” Federal law prohibits discrimination on the basis of race, color, age, sex, or country of national origin in the implementation of this project. It is also Federal policy to identify and address any disproportionately high and adverse effects of federal projects on the health or environment of minority and low income populations to the greatest extent practicable and permitted by law.

(Catalog of Federal Domestic Assistance Program Number 20.205, Highway Planning and Construction. The regulations implementing Executive Order 12372 regarding intergovernmental consultation on Federal programs and activities apply to this program.)

Authority: 23 U.S.C. 315; 49 CFR 1.48.

Issued on: September 14, 2015.
Andrew Brinkerhoff,
Major Projects Engineer, Federal Highway Administration, Madison, Wisconsin.

[FR Doc. 2015-24116 Filed 9-22-15; 8:45 am]

BILLING CODE 4910-22-P